DEPARTMENT OF TRANSPORTATION

Federal Aviation Administration

Agency Information Collection Activity Under OMB Review

AGENCY: Federal Aviation Administration (FAA), DOT.

ACTION: Notice.

SUMMARY: The FAA invites public comments about our intention to request the Office of Management and Budget's (OMB) revision of a current information collection. The Federal Register Notice with a 60-day comment period soliciting comments on the following collection of information was published on January 18, 2006, page 2982.

DATES: Please submit comments by July 12, 2006.

FOR FURTHER INFORMATION CONTACT: Carla Mauney on (202) 267-9895.

SUPPLEMENTARY INFORMATION:

Federal Aviation Administration (FAA)

Title: Commercial Space Transportation Licensing Regulations.

Type of Request: Revision of a currently approved collection.

OMB Control Number: 2120-0608.

Forms(s): Form 8800-1.

Affected Public: An estimated 2 Respondents.

Abstract: The required information will be used to determine if applicant proposal for conducting commercial space launches can be accomplished in a safe manner according to regulations and license orders issued by the Office of the Associate Administrator for Commercial Space Transportation. Respondents are applying for licenses to authorize licensed launch activities.

Estimated Annual Burden Hours: An estimated 3,089 hours annually.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collection; ways to enhance the quality, utility, and clarity of the information to be collected; and ways to minimize the burden of the collection of information on respondents, including the use of automated collection techniques or other forms of information technology.

Issued in Washington, DC, on June 2, 2006.
Carla Mauney,
FAA Information Collection Clearance Officer, Information Systems and Technology Services Staff, ABA-20.

[FR Doc. 06-5304 Filed 6-9-06; 8:45 am]

BILLING CODE 4910-13-M